DEPARTMENT OF COMMERCE

International Trade Administration

[C-427-819, C-428-829, C-421-809, C-412-821]

Low Enriched Uranium From France, Germany, the Netherlands, and the United Kingdom: Extension of Time Limit for Preliminary Results of Countervailing Duty Administrative Reviews

AGENCY: Import Administration, International Trade Administration, Department of Commerce.

ACTION: Notice of Extension of Time Limit for Preliminary Results of Countervailing Duty Administrative Reviews.

DATES: Effective October 19, 2004.

FOR FURTHER INFORMATION CONTACT: Kristen Johnson, AD/CVD Operations, Office III, Import Administration, International Trade Administration, U.S. Department of Commerce, 14th Street and Constitution Avenue, NW., Washington, DC 20230; telephone: (202) 482-4793.

Statutory Time Limits

Section 751(a)(3)(A) of the Tariff Act of 1930, as amended (the Act), requires the Department of Commerce (Department) to make a preliminary determination within 245 days after the last day of the anniversary month of an order/finding for which a review is requested and a final determination within 120 days after the date on which the preliminary determination is published. However, if it is not practicable to complete the review within the time period, section 751(a)(3)(A) of the Act allows the Department to extend these deadlines to a maximum of 365 days and 180 days, respectively.

Background

On March 26, 2004, the Department initiated administrative reviews of the countervailing duty orders on low enriched uranium from France, Germany, the Netherlands, and the United Kingdom, covering the period of review January 1, 2003 through December 31, 2003. See 69 FR 15788. The preliminary results are currently due no later than October 31, 2004.

Extension of Time Limit for Preliminary Results of Reviews

We determine that these reviews are extraordinarily complicated because there are a large number of complex issues to be considered and analyzed by the Department, along with numerous programs and changes to certain programs previously found countervailable. In order to complete our analysis, we require additional and/or clarifying information. As a result, it is not practicable to complete the preliminary results of these reviews within the original time limits. Therefore, the Department is extending the time limits for completion of the preliminary results until no later than February 28, 2005. This date constitutes a 120-day extension for the administrative reviews of low enriched uranium from France, Germany, the Netherlands, and the United Kingdom.

This extension is in accordance with section 751(a)(3)(A) of the Act.

Dated: October 14, 2004.
Jeffrey A. May,
Deputy Assistant Secretary for Import Administration.

[FR Doc. 04-23376 Filed 10-18-04; 8:45 am]

BILLING CODE 3510-DS-P